DEPARTMENT OF COMMERCE

International Trade Administration

[C-533-874]

Certain Cold-Drawn Mechanical Tubing of Carbon and Alloy Steel From India: Final Results of the Expedited First Sunset Review of the Countervailing Duty Order

AGENCY: Enforcement and Compliance, International Trade Administration, Department of Commerce.

SUMMARY: The U.S. Department of Commerce (Commerce) finds that revocation of the countervailing duty (CVD) order on certain cold-drawn mechanical tubing of carbon and alloy steel (cold-drawn mechanical tubing) from India would be likely to lead to the continuation or recurrence of countervailable subsidies at the levels indicated in the “Final Results of Sunset Review” section of this notice.

DATES: Applicable April 20, 2023.

FOR FURTHER INFORMATION CONTACT: Whitley Herndon, AD/CVD Operations, Office V, Enforcement and Compliance, International Trade Administration, U.S. Department of Commerce, 1401 Constitution Avenue NW, Washington, DC 20230; telephone: (202) 482-6274.

SUPPLEMENTARY INFORMATION:

Background

On February 1, 2018, Commerce published in the Federal Register the Order on cold-drawn mechanical tubing from India.¹ On January 3, 2023, Commerce published the notice of initiation of the first sunset review of the Order, in accordance with section 751(c) of the Tariff Act of 1930, as amended (the Act).² On January 17, 2023, Commerce received a timely notice of intent to participate from ArcelorMittal Tubular Products, Michigan Seamless Tube LLC, PTC Alliance Corp., Webco Industries, Inc., and Zekelman Industries, Inc. (collectively, the domestic interested parties).³ The domestic interested parties claimed interested party status under section 771(9)(C) of the Act as a group of domestic producers engaged in the production of cold-drawn mechanical tubing in the United States.

¹ See Certain Cold-Drawn Mechanical Tubing of Carbon and Alloy Steel from the People's Republic of China and India: Countervailing Duty Orders, 83 FR 4637 (February 1, 2018) (Order); see also Certain Cold-Drawn Mechanical Tubing of Carbon and Alloy Steel from the People's Republic of China and India: Countervailing Duty Orders; Correction, 86 FR 30595 (June 9, 2021).

² See Initiation of Five-Year (Sunset) Reviews, 88 FR 63 (January 3, 2023).

³ See Domestic Interested Parties' Letter, “Domestic Interested Parties' Notice of Intent to Participate,” dated January 17, 2023.

On February 1, 2023, Commerce received a timely and adequate substantive response from the domestic interested parties.⁴ We received no substantive responses from any other interested parties, including the Government of India, nor was a hearing requested. On February 24, 2023, Commerce notified the U.S. International Trade Commission that it did not receive an adequate substantive response from respondent interested parties.⁵ As a result, pursuant to section 751(c)(3)(B) of the Act and 19 CFR 351.218(e)(1)(ii)(C)(2), Commerce conducted an expedited (120-day) sunset review of the Order.

⁴ See Domestic Interested Parties' Letter, “Domestic Interested Parties' Substantive Response,” dated February 1, 2023 (Substantive Response).

⁵ See Commerce's Letter, “Sunset Reviews for January 2023,” dated February 24, 2023.

Scope of the Order

The merchandise covered by the Order is certain cold-drawn mechanical tubing of carbon and alloy steel. For a complete description of the scope, see the Issues and Decision Memorandum.⁶

⁶ See Memorandum, “Issues and Decision Memorandum for the Final Results of the Expedited First Sunset Review of the Countervailing Duty Order on Certain Cold-Drawn Mechanical Tubing of Carbon and Alloy Steel from India,” dated concurrently with, and hereby adopted by, this notice (Issues and Decision Memorandum).

Analysis of Comments Received

All issues raised in this sunset review are addressed in the accompanying Issues and Decision Memorandum, which is hereby adopted by this notice. A list of the topics discussed in the Issues and Decision Memorandum is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Review

Pursuant to sections 751I(1) and 752(b) of the Act, Commerce determines that revocation of the Order would be likely to lead to the continuation or recurrence of countervailable subsidies at the rates listed below:

Producer/exporter | Subsidy rate (percent ad valorem)
Goodluck India Limited | 8.07
Tube Investments of India Limited | 42.77
All Others | 22.63

Administrative Protective Order (APO)

This notice serves as the only reminder to parties subject to an APO of their responsibility concerning the destruction of proprietary information disclosed under APO in accordance with 19 CFR 351.305. Timely notification of the return or destruction of APO materials or conversion to judicial protective order is hereby requested. Failure to comply with the regulations and terms of an APO is a sanctionable violation.

Notification to Interested Parties

We are issuing and publishing these results in accordance with sections 751(c), 752(b), and 777(i)(1) of the Act and 19 CFR 351.218.

Dated: April 14, 2023.
Lisa W. Wang,
Assistant Secretary for Enforcement and Compliance.

Appendix

List of Topics Discussed in the Issues and Decision Memorandum

I. Summary

II. Background

III. Scope of the Order

IV. History of Order

V. Legal Framework

VI. Discussion of the Issues

1. Likelihood of Continuation or Recurrence of Countervailable Subsidies

2. Net Countervailable Subsidy Rates That Are Likely To Prevail

3. Nature of the Subsidies

VII. Final Results of Sunset Review

VIII. Recommendation

[FR Doc. 2023-08365 Filed 4-19-23; 8:45 am]

BILLING CODE 3510-DS-P